DEPARTMENT OF DEFENSE

Department of the Army; Corps of Engineers

Intent To Prepare a Draft Environmental Impact Statement/Environmental Impact Report (DEIS/DEIR) for Proposed Future Permit Actions Under Section 404 of the Clean Water Act for the Newhall Ranch Specific Plan and Associated Facilities Along Portions of the Santa Clara River and its Side Drainages, in Los Angeles County, CA

AGENCY: U.S. Army Corps of Engineers, DoD.

ACTION: Notice of Intent (NOI).

SUMMARY: The project proponent and landowner, The Newhall Land and Farming Company, has requested a long-term section 404 permit from the Corps of Engineers for facilities associated with the Newhall Ranch Specific Plan. Pursuant to section 102(2)(c) of the National Environmental Policy Act of 1969 (NEPA) as implemented by the regulations of the Council on Environmental Quality (CEQ), 40 CFR 1500-1508, the Corps of Engineers intends to prepare a Draft Environmental Impact Statement (DEIS) to evaluate the potential effects of the proposed action on the environment. To eliminate duplication of paperwork, the Corps of Engineers intends to coordinate the DEIS with the Draft Environmental Impact Report (DEIR) being prepared by the California Department of Fish and Game. The joint document will meet the requirements of NEPA as well as enable the Corps to analyze the project pursuant to the 404(b)(1) Guidelines and assess potential impacts on various public interest factors.

FOR FURTHER INFORMATION CONTACT: Questions about the proposed action and Draft EIS/EIR can be answered by Dr. Aaron O. Allen, Corps Project Manager, at (805) 585-2148. Comments shall be addressed to: U.S. Army Corps of Engineers, Los Angeles District, Ventura Field Office, ATTN: File Number 2003-01264-AOA, 2151 Alessandro Drive, Suite 110, Ventura, CA 93001. Alternatively, comments can be e-mailed to: Aaron.O.Allen@usace.army.mil.

SUPPLEMENTARY INFORMATION: 1. Project Site and Background Information. The Newhall Ranch Project is located in northern Los Angeles County and encompasses approximately 12,000 acres. The Santa Clara River and State Route 126 traverse the northern portion of the Specific Plan area. The river extends approximately 5.5 miles east to west across the site. On March 27, 2003, the Los Angeles County Board of Supervisors approved the Specific Plan, which establishes the general plan and zoning designations necessary to develop the site with residential, commercial, and mixed uses over the next 20 to 30 years. The Newhall Ranch Specific Plan also includes a Water Reclamation Plant at the western edge of the project area. Individual projects, such as residential, commercial, and industrial developments, roadways, and other public facilities would be developed over time in accordance with the development boundaries and guidelines in the approved Specific Plan. Many of these developments would require work in and adjacent to the Santa Clara River and its side drainages (“waters of the United States”).

The Newhall Land and Farming Company would develop most of the above facilities. However, other entities could construct some of these facilities using the approvals or set of approvals issued to The Newhall Land and Farming Company. The proposed Section 404 permit would also include routine maintenance activities to be carried out by Los Angeles County Department of Public Works using the Section 404 permit issued to The Newhall Land and Farming Company. Any party utilizing a Section 404 permit issued to The Newhall Land and Farming Company would be bound by the same conditions in the Section 404 permit.

2. Proposed Action. Newhall Land has identified various activities associated with the Newhall Ranch Project that would require Corps permitting. Many of the proposed activities would require a 404 permit because the activities would affect the riverbed or banks within the jurisdictional limits of the Corps in San Martinez Grande, Chiquito, Potrero, and Long canyons, and smaller drainages with peak flows of less than 2,000 cubic feet per second, as well as the Santa Clara River. These activities are listed and described in further detail below:

• Bank protection to protect land development projects along water courses (including buried soil cement, buried gunite, grouted riprap, ungrouted riprap, and gunite lining);

• Drainage facilities such as storm drains or outlets and partially lined open channels;

• Grade control structures;

• Bridges and drainage crossings;

• Utility crossings;

• Trails;

• Building pads;

• Activities associated with construction of a Water Reclamation Plant (WRP) adjacent to the Santa Clara River and required bank protection;

• Water quality control facilities (sedimentation control, flood debris, and water quality basins);

• Ongoing maintenance activities by the LACDPW; and

• Temporary haul routes for grading equipment.

3. Scope of Analysis. The DEIS will be a project-level document which addresses a number of interrelated actions over a specific geographic area that (1) would occur as logical parts in the chain of contemplated actions, and (2) would be implemented under the same authorizing statutory or regulatory authorities. The information in the DEIS will be sufficient for the Corps to make a decision regarding the issuance of a long-term Section 404 permit for the Newhall Ranch Specific Plan.

The document will be a joint Federal and state document. The California Department of Fish and Game (CDFG) will prepare an Environmental Impact Report (EIR) in accordance with the California Environmental Quality Act for the same project regarding a state streambed alteration agreement and state endangered species permit. The Corps and CDFG will work cooperatively to prepare a joint DEIS/DEIR document, and to coordinate the public noticing and hearing processes under Federal and state laws.

The impact analysis will follow the directives in 33 CFR part 325 which requires that it be limited to the impacts of the specific activities requiring a 404 permit and only those portions of the project outside of “waters of the United States” over which the Corps has sufficient control and responsibility to warrant Federal review. The Corps will extend the geographic scope of the environmental analysis beyond the boundaries of “waters of the United States” in certain areas to address indirect and cumulative impacts of the regulated activities, and to address connected actions pursuant to NEPA guidelines (40 CFR part 1508). In these upland areas, the Corps will evaluate impacts to the environment and identify feasible and reasonable mitigation measures and the appropriate state or local agencies with authority to implement these measures if they are outside the authority of the Corps. In evaluating impacts to areas and resources outside the Corps' jurisdiction, the Corps will consider the information and conclusions from the Final Program EIR for the Specific Plan prepared by Los Angeles County Department of Regional Planning. However, the Corps will exercise its independent expertise and judgment in addressing indirect and cumulative impacts to upland areas due to issuance of the proposed Section 404 permit.

4. Issues. There are several potential environmental issues that will be addressed in the DEIS/DEIR. Additional issues may be identified during the scoping process. Issues initially identified as potentially significant include:

(a) Surface Water Hydrology, Erosion and Sedimentation;

(b) Groundwater;

(c) Water Quality;

(d) Biological Resources;

(e) Land Use;

(f) Cultural and Paleontological Resources;

(g) Air Quality;

(h) Noise;

(i) Traffic;

(j) Visual Resources;

(k) Parks, Recreation and Trails.

5. Alternatives. Alternatives initially being considered for the proposed improvement project include the following:

(a) Alternate locations and configurations of various proposed facilities such as buried bank stabilization, bridges, and grade control structures, along each of the major side drainages including Chiquito Canyon, Potrero Canyon, San Martinez Grande, and Long Canyon, as well as the Santa Clara River;

(b) No Federal action (no construction of facilities within “Waters of the U.S.”);

(c) No Project (no physical changes).

6. Scoping Process. A public scoping meeting to receive input on the scope of the DEIS will be conducted on February 19, 2004 at 6:30 p.m. at Castaic Middle School, located at 28900 Hillcrest Parkway in Castaic, California. Participation in the scoping meeting by Federal, state, and local agencies, and other interested private citizens and organizations are encouraged.

7. Availability of the Draft EIS/EIR. The joint lead agencies expect the Draft EIS/EIR to be made available to the public in the summer of 2004. A public hearing will be held during the public comment period for the Draft EIS/EIR.

Dated: January 7, 2004.
John V. Guenther,
Lieutenant Colonel, U.S. Army, Acting District Engineer.

[FR Doc. 04-1671 Filed 1-28-04; 8:45 am]

BILLING CODE 3710-92-P